DEPARTMENT OF THE INTERIOR

Bureau of Ocean Energy Management

30 CFR Part 550

[Docket ID: BOEM-2023-0012]

RIN 1010-AE11

Protection of Marine Archaeological Resources

AGENCY: Bureau of Ocean Energy Management, Interior.

ACTION: Final rule; Congressional Review Act revocation.

SUMMARY: Under the Congressional Review Act, Congress passed, and the President signed, a joint resolution disapproving the final “Protection of Marine Archaeology Resources” rule published by the Bureau of Ocean Energy Management (BOEM) on September 3, 2024. That rule required lessees and operators to submit an archaeological report with any oil and gas exploration or development plan they submit to BOEM for approval of proposed activities on the Outer Continental Shelf (OCS). Under the joint resolution and by operation of the Congressional Review Act, the “Protection of Marine Archaeological Resources” rule has no force or effect.

DATES: This final rule is effective on April 14, 2025.

FOR FURTHER INFORMATION CONTACT: Karen Thundiyil, Office Director, Office of Regulatory Affairs, BOEM, 1849 C Street NW, Washington, DC 20240, at email address Karen.Thundiyil@boem.gov, or at telephone number (202) 742-0970.

SUPPLEMENTARY INFORMATION:

I. Background

Pursuant to the Outer Continental Shelf Lands Act (43 U.S.C. 1334), the National Historic Preservation Act, and the National Environmental Policy Act, BOEM issued the final rule “Protection of Marine Archaeological Resources.” BOEM published the rule in the Federal Register on September 3, 2024 (89 FR 71160), which amended 30 CFR part 550. The rule required that lessees and operators submit an archaeological report with any oil and gas exploration or development plan they provide to BOEM for approval of proposed activities on the OCS.

The purpose of that rule was to address concerns regarding BOEM's regulatory requirements for protecting marine archaeological resources. Specifically, those concerns centered on BOEM's inability to accurately identify the location of such potential resources and BOEM's long-standing policy of requiring archaeological surveys only in cases where evidence of a resource existed. The two major provisions of the rule were (1) the replacement of the “reason to believe” standard in the current regulations with the requirement that all proposed exploration or development plans that would disturb the seabed must be accompanied by an archaeological report, and (2) the codification of minimum requirements for any new high resolution geophysical surveys.

The United States Senate passed Senate Joint Resolution 11, disapproving the rule under the Congressional Review Act (5 U.S.C. 801 et seq.) on February 25, 2025. The United States House of Representatives passed the joint resolution on March 4, 2025. President Donald J. Trump signed the joint resolution into law on March 14, 2025 (Public Law No.: 119-3). Under the joint resolution and by operation of the Congressional Review Act, the “Protection of Marine Archaeological Resources” final rule has no force or effect.

II. Procedural Requirements

This action is not an exercise of BOEM's rulemaking authority under the Administrative Procedure Act because BOEM is not “formulating, amending, or repealing a rule” under 5 U.S.C. 551(5). Rather, BOEM is effectuating changes to the Code of Federal Regulations to reflect what the congressional action has already accomplished. Accordingly, BOEM is not soliciting comments on this action.

List of Subjects in 30 CFR Part 550

Administrative practice and procedure, Air pollution control, Continental shelf, Environmental impact statements, Environmental protection, Federal lands, Government contracts, Investigations, Mineral resources, Oil and gas exploration, Oil pollution, Outer continental shelf, Penalties, Pipelines, Public lands—rights-of-way, Reporting and recordkeeping requirements, Rights-of-way, Sulfur.

This action by the Assistant Secretary is taken pursuant to an existing delegation of authority.

Adam G. Suess,
Acting Assistant Secretary, Land and Minerals Management.

For the reasons stated in the preamble, BOEM amends 30 CFR part 550 as follows:

PART 550—OIL AND GAS AND SULFUR OPERATIONS IN THE OUTER CONTINENTAL SHELF

1. The authority citation for part 550 continues to read as follows:

Authority: 30 U.S.C. 1751; 31 U.S.C. 9701; 43 U.S.C. 1334.

Subpart A—General

2. Amend § 550.105 by revising the definition of “Archaeological resource” to read as follows:

§ 550.105 Definitions.

* * * * *

Archaeological resource means any material remains of human life or activities that are at least 50 years of age and that are of archaeological interest.

* * * * *

3. Revise § 550.194 to read as follows:

§ 550.194 How must I protect archaeological resources?

(a) If the Regional Director has reason to believe that an archaeological resource may exist in the lease area, the Regional Director will require in writing that your EP, DOCD, or DPP be accompanied by an archaeological report. If the archaeological report suggests that an archaeological resource may be present, you must either:

(1) Locate the site of any operation so as not to adversely affect the area where the archaeological resource may be; or

(2) Establish to the satisfaction of the Regional Director that an archaeological resource does not exist or will not be adversely affected by operations. This requires further archaeological investigation, conducted by an archaeologist and a geophysicist, using survey equipment and techniques the Regional Director considers appropriate. You must submit the investigation report to the Regional Director for review.

(b) If the Regional Director determines that an archaeological resource is likely to be present in the lease area and may be adversely affected by operations, the Regional Director will notify you immediately. You must not take any action that may adversely affect the archaeological resource until the Regional Director has told you how to protect the resource.

(c) If you discover any archaeological resource while conducting operations in the lease or right-of-way area, you must immediately halt operations within the area of the discovery and report the discovery to the BOEM Regional Director. If investigations determine that the resource is significant, the Regional Director will tell you how to protect it.

§ 550.195 [Removed and Reserved]

4. Remove and reserve § 550.195.

[FR Doc. 2025-06291 Filed 4-11-25; 8:45 am]

BILLING CODE 4340-98-P